DEPARTMENT OF THE INTERIOR

National Park Service

Avalanche Hazard Reduction by Burlington Northern Santa Fe Railroad in Glacier National Park and Flathead National Forest Montana Draft Environmental Impact Statement, Glacier National Park, Montana

AGENCY: National Park Service, Department of the Interior.

ACTION: Notice of availability of the Draft Environmental Impact Statement for the Avalanche Hazard Reduction by Burlington Northern Santa Fe Railroad in Glacier National Park and Flathead National Forest Montana Glacier National Park, Montana.

SUMMARY: Pursuant to the National Environmental Policy Act of 1969, 42 U.S.C. 4332(2)(C), the National Park Service announces the availability of a Draft Environmental Impact Statement for the Avalanche Hazard Reduction by Burlington Northern Santa Fe Railroad in Glacier National Park and Flathead National Forest Montana Draft Environmental Impact Statement, Glacier National Park, Montana.

DATES: The National Park Service will accept comments on the Draft Environmental Impact Statement from the public for 60 days from the date the Environmental Protection Agency publishes the Notice of Availability. No public meetings are scheduled at this time.

ADDRESSES: Information will be available for public review and comment online at http://parkplanning.nps.gov, in the office of the Superintendent, Mick Holm, Glacier National Park Headquarters, West Glacier, Montana, 406-888-7901 and Hudson Bay District Offices, Glacier National Park, St. Mary, Montana, 406-732-7700.

FOR FURTHER INFORMATION CONTACT: Mary Riddle, Glacier National Park, West Glacier, MT 59936, 406-888-7898, mary_riddle@nps.gov.

SUPPLEMENTARY INFORMATION: If you wish to comment, you may submit your comments by any one of several methods. You may mail comments to Glacier National Park, Attention Avalanche Hazard DEIS, West Glacier, MT 59936. You may also comment via the Internet at http://parkplanning.nps.gov. If you do not receive a confirmation from the system that we have received your Internet message, contact us directly at 406-888-7902. Finally, you may hand-deliver comments to Glacier National Park, Headquarters, Going-to-the Sun Road, West Glacier, MT. Our practice is to make comments, including names, home addresses, home phone numbers, and email addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released.

We will always make submissions from organizations or businesses, and from individuals identifying themselves as representatives of or officials of organizations or businesses, available for public inspection in their entirety.

Dated: September 18, 2006.
Anthony J. Schetzsle,
Acting Director, Intermountain Region, National Park Service.

[FR Doc. E6-18208 Filed 10-27-06; 8:45 am]

BILLING CODE 4310-9Y-P